INTERNATIONAL TRADE COMMISSION

[USITC SE-15-041]

Government in the Sunshine Act Meeting Notice

AGENCY HOLDING THE MEETING: United States International Trade Commission.

TIME AND DATE: December 11, 2015 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-549 and 731-TA-1299-1303 (Preliminary) (Circular Welded Carbon-Quality Steel Pipe from Oman, Pakistan, the Philippines, the United Arab Emirates, and Vietnam). The Commission is currently scheduled to complete and file its determinations on December 14, 2015; views of the Commission are currently scheduled to be completed and filed on December 21, 2015.

5. Vote in Inv. Nos. 701-TA-550 and 731-TA-1304-1305 (Preliminary) (Certain Iron Mechanical Transfer Drive Components from Canada and China). The Commission is currently scheduled to be completed and filed on December 14, 2015; views of the Commission are currently scheduled to be completed and filed on December 21, 2015.

6. Outstanding action jackets: None.

In accordance with Commission policy, subject matter listed above, not disposed of at the scheduled meeting, may be carried over to the agenda of the following meeting.

By order of the Commission.
Issued: November 30, 2015.
William R. Bishop,
Supervisory Hearings and Information Officer.

[FR Doc. 2015-30634 Filed 12-1-15; 11:15 am]

BILLING CODE 7020-02-P